DEPARTMENT OF TRANSPORTATION

Pipeline and Hazardous Materials Safety Administration

[Docket No. PHMSA-2012-0170, Notice No. 12-7]

Safety Advisory: Unauthorized Marking of Compressed Gas Cylinders

AGENCY: Pipeline and hazardous Materials Safety Administration (PHMSA), DOT.

ACTION: Safety Advisory Notice.

SUMMARY: PHMSA is issuing this safety advisory to notify the public of the unauthorized marking of high pressure compressed gas cylinders by George Welding & Supply Co., Inc. located at 205 Tombs Lane, Montoursville, PA.

FOR FURTHER INFORMATION CONTACT: Mitchell Brown, Hazardous Materials Investigator, Eastern Region, Office of Hazardous Materials Safety, Pipeline and Hazardous Materials Safety Administration, U.S. Department of Transportation, 820 Bear Tavern Road, Suite 306, West Trenton, NJ 08034. Telephone: (609) 989-2256, Fax: (609) 989-2277 or, via email: mitchell.brown@dot.gov.

SUPPLEMENTARY INFORMATION: Investigators from PHMSA's Office of Hazardous Materials Safety (OHMS) recently conducted a compliance inspection of George Welding & Supply Co., Inc. As a result of that inspection, PHMSA has determined that George Welding & Supply Co., Inc. marked an unknown number of high pressure compressed gas cylinders with unauthorized Requalifier Identification Numbers (RIN). In addition, the evidence suggests that George Welding & Supply Co., Inc. marked and certified an unknown number of high pressure compressed gas cylinders as being properly requalified in accordance with the Hazardous Materials Regulations (HMR) when it had not conducted the testing prescribed by the HMR. PHMSA has no record that George Welding & Supply Co., Inc. was ever approved to requalify DOT-specification cylinders or mark such cylinders as being requalified.

The evidence suggests that George Welding & Supply Co., Inc. used RINs that were issued by PHMSA to other companies authorizing cylinder requalification. The companies whose RINs were used without authorization are: C171—Proshield Fire Protection, Waterloo, IA; C004—Swartz Fire & Safety Equipment Co., Inc., Bellefonte, PA; C411—Advanced Fire Protection Services, Inc., Ft. Walton Beach, FL; C951—Peifer's Fire Protection, Inc., Pillow, PA; D477—NASCO, Colorado Springs, CO; D575—Sea Sports, Inc., Hyannis, MA; D576—Chenango Welding Supply, LLC; A101—Airgas North Central, Waterloo, IA; and D322—Allstate Fire Equipment Co. Each of the previously indicated companies with an authorized RIN has been granted authority to requalify cylinders under the terms of the RIN supplied to them. Thus, if cylinders were serviced by the aforementioned companies, they are not subject to this notice. Only cylinders serviced by George Welding & Supply Co., Inc. baring these markings are affected.

A cylinder requalification consisting of a visual inspection and a hydrostatic test, conducted as prescribed in the HMR, is used to verify the structural integrity of a cylinder. If the requalification is not performed in accordance with the HMR, a cylinder with compromised structural integrity may be inadvertently returned to service when it should be condemned. Extensive property damage, serious personal injury, or death could result from rupture of a cylinder.

If cylinders have been taken to or received from George Welding & Supply Co., Inc., between calendar years 2001 through 2012, these cylinders may not have been properly tested as prescribed by the HMR. These cylinders should be considered unsafe and unauthorized for the filling of hazardous material, unless and until the cylinder is first tested properly by an individual or company authorized to requalify DOT specification cylinders. Cylinders described in this safety advisory that are filled with an atmospheric gas should be vented or otherwise safely discharged. Cylinders that are filled with a material other than an atmospheric gas should not be vented but instead should be safely discharged. Prior to refilling, the cylinders must be taken to a DOT-authorized cylinder requalifier to ensure their suitability for continued service. A list of authorized requalifiers may be obtained at this Web site: http://www.phmsa.dot.gov/hazmat/regs/sp-a/approvals/cylinders.

Issued in Washington, DC, on October 16, 2012.
Magdy El-Sibaie,
Associate Administrator for Hazardous Materials Safety.

[FR Doc. 2012-25870 Filed 10-19-12; 8:45 am]

BILLING CODE 4910-60-P